OFFICE OF THE UNITED STATES TRADE REPRESENTATIVE

Fiscal Year 2011 Allocation of Additional Tariff-Rate Quota Volume for Raw Cane Sugar and Reallocation of Unused Fiscal Year 2011 Tariff-Rate Quota Volume for Raw Cane Sugar

AGENCY: Office of the United States Trade Representative.

ACTION: Notice.

SUMMARY: The Office of the United States Trade Representative (USTR) is providing notice of country-by-country allocations of additional Fiscal Year (FY) 2011 in-quota quantity of the tariff-rate quota (TRQ) for imported raw cane sugar and of country-by-country reallocations of the FY 2011 in-quota quantity of the tariff-rate quota for imported raw cane sugar.

DATES: Effective Date: April 15, 2011.

ADDRESSES: Inquiries may be mailed or delivered to Ann Heilman-Dahl, Director of Agricultural Affairs, Office of Agricultural Affairs, Office of the United States Trade Representative, 600 17th Street, NW., Washington, DC 20508.

FOR FURTHER INFORMATION CONTACT: Ann Heilman-Dahl, Office of Agricultural Affairs, 202-395-6127.

SUPPLEMENTARY INFORMATION: Pursuant to Additional U.S. Note 5 to Chapter 17 of the Harmonized Tariff Schedule of the United States (HTS), the United States maintains TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On April 11, 2011, The Secretary of Agriculture announced an additional in-quota quantity of the TRQ for raw cane sugar for the remainder of FY 2011 (ending September 30, 2011) in the amount of 294,835 metric tons, raw value (MTRV). This quantity is in addition to the minimum amount to which the United States has already committed to pursuant to the World Trade Organization (WTO) Uruguay Round Agreements (1,117,195 MTRV as announced by Federal Register notice on August 5, 2010). Finally, USTR has determined to reallocate 102,177 MTRV of the minimum amount of the original TRQ for raw cane sugar from countries that have stated they will be unable to fill previously allocated FY 2011 raw sugar TRQ quantities. USTR is allocating this total quantity of 397,012 MTRV to the following countries in the amounts specified below:

Country | Combined FY 2011 re-allocation and increase
Argentina | 21,395
Australia | 41,299
Belize | 5,474
Bolivia | 3,980
Brazil | 72,148
Colombia | 11,941
Costa Rica | 7,463
Dominican Republic | 20,000
Ecuador | 5,474
El Salvador | 12,937
Guatemala | 23,884
Guyana | 5,971
Honduras | 5,000
India | 3,980
Jamaica | 5,000
Malawi | 4,976
Mauritius | 2,000
Mozambique | 6,469
Nicaragua | 10,449
Panama | 14,430
Peru | 20,400
Philippines | 60,000
South Africa | 11,444
Swaziland | 7,961
Thailand | 6,966
Zimbabwe | 5,971

These allocations are based on the countries' historical shipments to the United States. The allocations of the raw cane sugar TRQ to countries that are net importers of sugar are conditioned on receipt of the appropriate verifications of origin and certificates for quota eligibility must accompany imports from any country for which an allocation has been provided.

Conversion factor: 1 metric ton = 1.10231125 short tons.

Ronald Kirk,
United States Trade Representative.

[FR Doc. 2011-9163 Filed 4-14-11; 8:45 am]

BILLING CODE 3190-W1-P